DEPARTMENT OF HOMELAND SECURITY

Federal Emergency Management Agency

44 CFR Part 65

[Docket ID FEMA-2010-000; Internal Agency Docket No. FEMA-B-1090]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (email) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas: Pulaski | City of Little Rock (09-06-1629P) | November 10, 2009; November 17, 2009; Arkansas Democrat-Gazette | The Honorable Mark Stodola, Mayor, City of Little Rock, 500 West Markham, Suite 203, Little Rock, AR 72201 | March 17, 2010 | 050181
California: Riverside | City of Corona (09-09-0491P) | November 10, 2009; November 17, 2009; Press-Enterprise | The Honorable Steve Nolan, Mayor, City of Corona, 400 South Vincentia Avenue, Corona, CA 92882 | March 17, 2010 | 060250
Colorado:
Weld | Town of Erie (09-08-0608P) | October 30, 2009; November 6, 2009; Greeley Tribune | The Honorable Andrew J. Moore, Mayor, Town of Erie, 645 Holbrook Street, Erie, CO 80516 | March 6, 2010 | 080181
Weld | Unincorporated areas of Weld County (09-08-0608P) | October 30, 2009; November 6, 2009; Greeley Tribune | The Honorable Bill Garcia, Chairman, Weld County Board of Commissioners, 915 10th Street, Greeley, CO 80632 | March 6, 2010 | 080266
Georgia:
Catoosa | Unincorporated areas of Catoosa County (09-04-1746P) | November 11, 2009; November 18, 2009; Catoosa County News | The Honorable Keith Greene, Chairman, Catoosa County Board of Commissioners, 800 Lafayette Street, Ringgold, GA 30736 | March 18, 2010 | 130028
Harris | Unincorporated areas of Harris County (09-04-6111P) | October 22, 2009; October 29, 2009; Harris County Journal | The Honorable J. Harry Lange, Chairman, Harris County Board of Commissioners, P.O. Box 365, Hamilton, GA 31811 | February 26, 2010 | 130338
Illinois: Will | Village of Bolingbrook (10-05-0103P) | November 5, 2009; November 12, 2009; Bolingbrook Bugle | The Honorable Roger C. Claar, Mayor, Village of Bolingbrook, 375 West Briarcliff Road, Bolingbrook, IL 60440 | March 12, 2010 | 170812
Kentucky: Warren | City of Bowling Green (10-04-0070P) | November 10, 2009; November 17, 2009; Daily News | The Honorable Elaine Walker, Mayor, City of Bowling Green, P.O. Box 430, Bowling Green, KY 42101 | October 30, 2009 | 210219
Maryland: Carroll | City of Westminster (09-03-0356P) | November 16, 2009; November 23, 2009; Carroll County Times | The Honorable Kevin R. Utz, Mayor, City of Westminster, 1838 Emerald Hill Lane, Westminster, MD 21157 | March 23, 2010 | 240018
Michigan: Oakland | City of Southfield (10-05-0105P) | November 10, 2009; November 17, 2009; Oakland Press | The Honorable Brenda L. Lawrence, Mayor, City of Southfield, 26000 Evergreen Road, Southfield, MI 48076 | March 17, 2010 | 260179
Nebraska: Saunders | City of Ashland (09-07-2079P) | November 5, 2009; November 12, 2009; Ashland Gazette | The Honorable Paul Lienke, Mayor, City of Ashland, 2304 Silver Street, Ashland, NE 68003 | March 12, 2010 | 310196
Pennsylvania:
Dauphin | Township of Lower Paxton (09-03-1723P) | November 9, 2009; November 16, 2009; Patriot News | The Honorable William Hawk, Chairman, Board of Supervisors, Lower Paxton Township, 425 Prince Street, Harrisburg, PA 17109 | March 16, 2010 | 420384
Tennessee:
Rutherford | City of Murfreesboro (09-04-0707P) | October 28, 2009; November 4, 2009; Daily News Journal | The Honorable Thomas Bragg, Mayor, City of Murfreesboro, 111 West Vine Street, Murfreesboro, TN 37130 | March 4, 2010 | 470168
Rutherford | Unincorporated areas of Rutherford County (09-04-0707P) | October 28, 2009; November 4, 2009; Daily News Journal | The Honorable Ernest G. Burgess, Mayor, Rutherford County, 20 North Public Square, Room 101, Murfreesboro, TN 37130 | March 4, 2010 | 470165
Texas:
Bexar | City of San Antonio (09-06-0484P) | November 6, 2009; November 13, 2009; Daily Commercial Recorder | The Honorable Julian Castro, Mayor, City of San Antonio, P.O. Box 839966, San Antonio, TX 78283 | November 23, 2009 | 480045
Bexar | City of San Antonio (09-06-1554P) | November 5, 2009; November 12, 2009; Daily Commercial Recorder | The Honorable Julian Castro, Mayor, City of San Antonio, P.O. Box 839966, San Antonio, TX 78283 | March 12, 2010 | 480045
Collin | City of Allen (09-06-0276P) | November 12, 2009; November 19, 2009; Allen American | The Honorable Stephen Terrell, Mayor, City of Allen, 305 Century Parkway, Allen, TX 75013 | March 19, 2010 | 480131
Collin | City of Plano (09-06-0276P) | November 12, 2009; November 19, 2009; Plano Star Courier | The Honorable Phil Dyer, Mayor, City of Plano, 1520 Avenue K, Plano, TX 75074 | March 19, 2010 | 480140
Dallas | City of Garland (09-06-0866P) | November 6, 2009; November 13, 2009; Dallas Morning News | The Honorable Ronald E. Jones, Mayor, City of Garland, P.O. Box 469002, Garland, TX 75046 | March 13, 2010 | 485471
Dallas | City of Glenn Heights (09-06-2323P) | July 10, 2009; July 17, 2009; Focus Daily News | The Honorable Clark Choate, Mayor, City of Glenn Heights, 1938 South Hampton Road, Glenn Heights, TX 75154 | November 16, 2009 | 481265
Virginia:
City of Hampton | City of Hampton (09-03-0030P) | November 9, 2009; November 16, 2009; Daily Press | The Honorable Molly Joseph Ward, Mayor, City of Hampton, 22 Lincoln Street, 8th Floor, Hampton, VA 23669 | March 16, 2009 | 515527
City of Newport News | City of Newport News (09-03-0030P) | November 9, 2009; November 16, 2009; Daily Press | The Honorable Joe S. Frank, Mayor, City of Newport News, 2400 Washington Avenue, Newport News, VA 23607 | March 16, 2009 | 510103
York | Unincorporated areas of York County (09-03-0030P) | November 9, 2009; November 16, 2009; Daily Press | The Honorable Walter Zaremba, Chairman, York County Board of Supervisors, 224 Ballard Street, Yorktown, VA 23690 | March 16, 2009 | 510182
Wyoming:
Natrona | City of Casper (09-08-0351P) | November 12, 2009; November 19, 2009; Casper Star-Tribune | The Honorable Kenyne Schlager, Mayor, City of Casper, 200 North David Street, Casper, WY 82601 | October 30, 2009 | 560037
Natrona | Unincorporated areas of Natrona County (09-08-0351P) | November 12, 2009; November 19, 2009; Casper Star-Tribune | The Honorable Robert Hendry, Chairman, Natrona County Board of Commissioners, 200 North Center Street, Room 115 Casper, WY 82601 | October 30, 2009 | 560036

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8042 Filed 4-8-10; 8:45 am]

BILLING CODE 9110-12-P